DEPARTMENT OF COMMERCE

National Oceanic and Atmospheric Administration

Proposed Information Collection; Comment Request; Availability and Application of Socioeconomic Data in Resource Management in the U.S. Pacific Islands

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 15, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Supin Wongbusarakum, Ecosystem Sciences Division, Pacific Islands Fisheries Science Center, 1845 Wasp Blvd., Building 176, Honolulu, HI 96818, (808) 725 5487, supin.wongbusarakum@noaa.gov.

SUPPLEMENTARY INFORMATION:

I. Abstract

This request is for a new collection of information. The objective of the study is to understand the types of available socioeconomic data, types of data used and data gaps identified, regarding coastal conservation management, fisheries and other marine conservation management, and efforts (including opportunities and barriers) in integrating biophysical and socioeconomic data. The voluntary survey and interviews will assess the degree to which the available socioeconomic data are being used and have met the needs of the different natural resource management and conservation programs in the U.S. jurisdictions and affiliations in the Pacific island region. Results of the survey and interviews are expected to assist in guiding any future modifications of socioeconomic and biophysical indicators, data collecting tools, approaches, and communications of results.

II. Method of Collection

The survey will be conducted using two modes, internet based surveys, surveys and in-person interviews.

III. Data

OMB Control Number: 0648-xxxx.

Form Number(s): None.

Type of Review: Regular submission (request for a new information collection).

Affected Public: Individuals, Not-for-profit institution staff; State, local, and federal government agency officers.

Estimated Number of Respondents: 80.

Estimated Time per Response: 30 minutes for survey and 1 hour per interview.

Estimated Total Annual Burden Hours: 50 hours.

Estimated Total Annual Cost to Public: $0 in record keeping/reporting.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 9, 2018.
Sarah Brabson,
NOAA PRA Clearance Officer.

[FR Doc. 2018-17410 Filed 8-13-18; 8:45 am]

BILLING CODE 3510-JS-P